NUCLEAR REGULATORY COMMISSION

Sunshine Federal Register Notice

Agency Holding the Meetings: Nuclear Regulatory Commission.

Date: Weeks of March 7, 13, 21, 28, April 4, 11, 2005.

Place: Commissioners' Conference Room, 11555 Rockville Pike, Rockville, Maryland.

Status: Public and closed.

Matters To Be Considered:

Week of March 7, 2005

Monday, March 7, 2005

9:55 a.m. Affirmation Session (Public Meeting).

a. Final Rule: Medical Use of Byproduct Material—Recognition of Specialty Boards.

10 a.m. Briefing on Office of Nuclear Material Safety and Safeguards Programs, Performance, and Plans—Materials Safety (Public Meeting) (Contact: Shamica Walker, (301) 415-5142).

This meeting will be Webcast live at the Web address— http://www.nrc.gov.

Week of March 14, 2005—Tentative

Wednesday, March 16, 2005

9:30 a.m. Meeting with Advisory Committee on Nuclear Waste (ACNW) (Public Meeting) (Contact: John Larkins, (301) 415-7360).

This meeting will be Webcast live at the Web address— http://www.nrc.gov.

Week of March 21, 2005—Tentative

There are no meetings scheduled for the Week of March 21, 2005.

Week of March 28, 2005—Tentative

Tuesday, March 29, 2005

9:30 a.m. Briefing on Office of Nuclear Security and Incident Response (NSIR) Programs, Performance, and Plans (Public Meeting) (Contact: Robert Caldwell, (301) 415-1243).

This meeting will be Webcast live at the Web address— http://www.nrc.gov.

1 p.m. Discussion of Security Issues (Closed—Ex. 1).

Week of April 4, 2005—Tentative

Tuesday, April 5, 2005

9:30 a.m. Briefing on Office of Research (RES) Programs, Performance, and Plans (Public Meeting) (Contact: Alix Dvorak, (301) 415-6601).

This meeting will be Webcast live at the Web address— http://www.nrc.gov.

Wednesday, April 6, 2005

9:30 a.m. Briefing on Status of New Site and Reactor Licensing (Public Meeting) (Contact: Steven Bloom, (301) 415-1313).

This meeting will be Webcast live at the Web address— http://www.nrc.gov.

Thursday, April 7, 2005

1.30 p.m. Meeting with Advisory Committee on Reactor Safeguards (ACRS) (Public Meeting) (Contact: John Larksins, (301) 415-7360).

This meeting will be Webcast live at the Web address— http://www.nrc.gov.

Week of April 11, 2005—Tentative

There are no meetings scheduled for the Week of April 11, 2005.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodations to individuals with disabilities where appropriate. If you need a reasonable accommodation to participate in these public meetings, or need this meeting notice or the transcript or other information from the public meetings in another format (e.g. braille, large print), please notify the NRC's Disability Program Coordinator, Agusut Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 ((301) 415-1969). In addition, distribution of this meeting notice over the Internet system is available. If you are interested in receiving this Commission meeting schedule electronically, please send an electronic message to dkw@nrc.gov.

Dated: March 3, 2005.
Dave Gamberoni,
Office of the Secretary.

[FR Doc. 05-4545 Filed 3-4-05; 9:27 am]

BILLING CODE 7590-01-M